DEPARTMENT OF ENERGY

Federal Energy Regulatory Commission

Combined Notice of Filings

Take notice that the Commission has received the following Natural Gas Pipeline Rate and Refund Report filings:

Filings Instituting Proceedings

Docket Numbers: RP15-1183-000.

Applicants: Eni Petroleum US LLC, et. al.

Description: Joint Petition of Eni Petroleum US LLC, et. al. for Temporary Waiver of Capacity Release Regulations and Policies and Request for Expedited Action.

Filed Date: 8/6/15.

Accession Number: 20150806-5123.

Comments Due: 5 p.m. ET 8/13/15.

Docket Numbers: RP15-1184-000.

Applicants: Gulf Crossing Pipeline Company LLC.

Description: § 4(d) Rate Filing: Revisions Related to Lease Modification to be effective 9/1/2014

Filed Date: 8/7/15.

Accession Number: 20150807-5091.

Comments Due: 5 p.m. ET 8/19/15.

Docket Numbers: RP15-1185-000.

Applicants: Enable Mississippi River Transmission, L.

Description: § 4(d) Rate Filing: Negotiated Rate Filing to Amend LER 5680's Attachment A_8-7-15 to be effective 8/7/2015.

Filed Date: 8/7/15.

Accession Number: 20150807-5186.

Comments Due: 5 p.m. ET 8/19/15.

Docket Numbers: RP15-1186-000.

Applicants: Paiute Pipeline Company.

Description: § 4(d) Rate Filing: Non-conforming TSA-F30A to be effective 8/7/2015.

Filed Date: 8/7/15.

Accession Number: 20150807-5202.

Comments Due: 5 p.m. ET 8/19/15.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP15-301-001.

Applicants: Equitrans, L.P.

Description: Compliance filing Interruptible Balancing Service—Compliance Filing to be effective 9/6/2015.

Filed Date: 8/6/15.

Accession Number: 20150806-5106.

Comments Due: 5 p.m. ET 8/18/15.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 11, 2015.
Nathaniel J. Davis, Sr.,
Deputy Secretary.

[FR Doc. 2015-20082 Filed 8-13-15; 8:45 am]

BILLING CODE 6717-01-P